DEPARTMENT OF TRANSPORTATION

14 CFR Part 71

[Airspace Docket No. 00-AGL-29]

Modification of Class E Airspace; Hillsboro, ND; Correction

AGENCY: Federal Aviation Administration (FAA), DOT.

ACTION: Final rule; correction.

SUMMARY: This action corrects an error in the heading of a final rule that was published in the Federal Register on Friday, January 4, 2002 (67 FR 515), Airspace Docket No. 00-AGL-29. The final rule modified Class E Airspace at Hillsboro, ND.

EFFECTIVE DATE: 0901 UTC, February 21, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register document 02-256, Airspace Docket No. 00-AGL-29, published on January 4, 2002 (67 FR 515), modified Class E Airspace at Hillsboro, ND. An error in the heading for the Class E airspace for Hillsboro, ND, was published. The word proposed should not have been used. This action corrects that error.

Correction to Final Rule

Accordingly, pursuant to the authority delegated to me, the heading for the Class E airspace, Hillsboro, ND, as published in the Federal Register January 4, 2002 (67 FR 515), (FR Doc. 02-256), is corrected as follows: On page 515, column 2, in the heading, line 5, remove the word “Proposed”.

Issued in Des Plaines, Illinois on February 6, 2002.
Nancy B. Shelton,
Manager, Air Traffic Division, Great Lakes Region.

[FR Doc. 02-5118 Filed 3-8-02; 8:45 am]

BILLING CODE 4910-13-M